ENVIRONMENTAL PROTECTION AGENCY

[FRL-7075-2]

Agency Information Collection Activities: Submission for OMB Review; Comment Request; Disinfectants/Disinfection Byproducts, Chemical, and Radionuclides Rules ICR

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Disinfectants/Disinfection Byproducts, Chemical, and Radionuclides Rules: OMB Control No. 2040-0204 expiring November 30, 2001. The ICR describes the nature of the information collection and its expected burden and cost; where appropriate, it includes the actual data collection instrument.

DATES: Comments must be submitted on or before November 5, 2001.

ADDRESSES: Send comments, referencing EPA ICR No. 1896.02 and OMB Control No. 2040-0204, to the following addresses: Sandy Farmer, U.S. Environmental Protection Agency, Collection Strategies Division (Mail Code 2822), 1200 Pennsylvania Avenue, N.W., Washington, DC 20460; and to Office of Information and Regulatory Affairs, Office of Management and Budget (OMB), Attention: Desk Officer for EPA, 725 17th Street, N.W., Washington, DC 20503.

FOR FURTHER INFORMATION CONTACT: For a copy of the ICR contact Sandy Farmer at EPA by phone at (202) 260-2740, by E-mail at Farmer.sandy@epamail.epa.gov, or download off the Internet at http://www.epa.gov/icr and refer to EPA ICR No. 1896.02. For technical questions about the ICR contact Lisa Christ at (202) 260-3967.

SUPPLEMENTARY INFORMATION: Title: Disinfectants/Disinfection Byproducts, Chemical, and Radionuclides Rules ICR (OMB Control No. 2040-0204; EPA ICR No. 1896.02, expiring 11/30/01). This is a request for extension of a currently approved ICR.

Abstract: The Disinfectants/Disinfection Byproducts, Chemical, and Radionuclides Rules ICR is the result of a consolidation of activities covered in the 1998 Stage 1 DBPR ICR, some rules and activities covered in the 1993 PWSS ICR and activities and rules previously covered in other OGWDW standalone ICRs. This ICR will include: Stage 1 DBPR(EPA ICR Number 1896.01, OMB Control Number 2040-0204), Chemical Phase Rules (Phases II/IIB/V) (OMB Control Number 2040-0090, EPA ICR Number 0270.39), Unregulated Contaminant Monitoring Rule Lists 1 and 2 (OMB Control Number 2040-0208, EPA ICR Number 1882.02), 1976 Radionuclides and 2000 Radionuclides Rule (OMB Control Number 2040-0090, EPA ICR Number 0270.39), Total Trihalomethane Rule (OMB Control Number 2040-0090, EPA ICR Number 0270.39), and the Surface Water Treatment Rule (disinfectant residual monitoring only)(OMB Control Number 2040-0090, EPA ICR Number 0270.39). The Disinfectants/Disinfection Byproducts, Chemical, and Radionuclides Rules ICR requires information collection for data such as: Maximum contaminant levels (MCLs) for Stage 1 Disinfectants/Disinfection Byproducts for systems that treat their water with a chemical disinfectant, maximum residual disinfectant levels (MRDLs) for Chlorine, Chloramines, and Chlorine Dioxide, monitoring results for total organic carbon (TOC) and alkalinity for subpart H systems employing conventional filtration, monitoring results for the compounds and contaminants addressed by the Chemical Phase Rules and UCMR, monitoring results for gross alpha particle activity, combined radium-226 and radium-228, separate radium-226 and radium-228, gross beta/photon emitters, radon and uranium as outlined in the 1976 Radionuclides and 2000 Radionuclides Rule. The regulatory initiatives discussed in this document are intended to protect public health and welfare from Disinfectants/Disinfection Byproducts, Chemical, and Radionuclides contaminants. All of the data collected from PWSs and States are mandatory (40 CFR part 141 and 40 CFR part 142). Monitoring, reporting and record keeping are required at both the system and State levels under the National Primary Drinking Water Regulations (NPDWRs). EPA has chosen to require the least frequent collection that remains consistent with overall public health preservation objectives. Data collected allow States to identify in a timely fashion significant contaminant concentrations which might threaten the health and safety of drinking water consumers. The information collected in this ICR is used to aid in understanding the quality of drinking water, protect public health and welfare from Disinfectants/Disinfection Byproducts, Chemical, and Radionuclides contaminants, make regulatory enforcement decisions and to oversee State programs. Primary users of the data collected under this ICR are the Office of Ground Water Drinking Water (OGWDW), Office of Enforcement & Compliance Assurance (OECA), Public Water System managers and primacy agencies, which include State regulators, Indian Tribes and occasionally Regional Administrators. An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on June 1, 2001 and no comments were received.

Burden Statement: The annual public reporting and record keeping burden for this collection of information is estimated to average 1.6 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Existing Public Water Systems and Primacy Agencies.

Estimated Number of Respondents: 167,894.

Frequency of Response: varies by requirement (i.e. monthly, quarterly, annually).

Estimated Total Annual Hour Burden: 4,134,816 hours.

Estimated Total Annualized Capital, O&M Cost Burden: $256,833,000. Send comments on the Agency's need for this information, the accuracy of the provided burden estimates, and any suggested methods for minimizing respondent burden, including through the use of automated collection techniques to the addresses listed above. Please refer to EPA ICR No. 1896.02 and OMB Control No. 2040-0204 in any correspondence.

Dated: September 20, 2001.
Oscar Morales,
Director, Collection Strategies Division.

[FR Doc. 01-25001 Filed 10-4-01; 8:45 am]

BILLING CODE 6560-50-P